FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Application Form for Membership on the Community Advisory Council (FR 1401; OMB No. 7100-0371).

DATES: The revisions are effective as of the 2025 application period.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/review or may be requested from the agency clearance officer, whose name appears above. On the page displayed at the link above, you can find the supporting information by referencing the collection identifier, FR 1401.

Final Approval Under OMB Delegated Authority of the Extension for Three Years, With Revision, of the Following Information Collection

Collection title: Application Form for Membership on the Community Advisory Council.

Collection identifier: FR 1401.

OMB control number: 7100-0371.

General description of collection: The Application Form for Membership on the Community Advisory Council (Application) is used to obtain information about the experiences and qualifications of persons seeking to be considered for membership on the Board's Community Advisory Council (CAC). The Application collects an applicant's contact information; details regarding current employment and areas of expertise; a resume, which typically includes information about employment history, education, and training; and a cover letter explaining why the applicant is interested in serving on the CAC and their primary qualifications. Applicants can voluntarily elect to provide additional information to support their application.

Frequency: Annual.

Respondents: Individuals seeking to be considered for membership on the CAC.

Total estimated number of respondents: 300.

Total estimated change in burden: 23.

Total estimated annual burden hours: 323.

Current actions: On September 30, 2024, the Board published a notice in the Federal Register (89 FR 79588) requesting public comment for 60 days on the extension, with revision, of the FR 1401. The Board proposed to modify the choices for the organization type, add choices for the areas of expertise on the application, and add two attestations. Revisions will be effective as of the 2025 application period. The comment period for this notice expired on November 29, 2024. The Board did not receive any comments. The revisions will be implemented as proposed.

Board of Governors of the Federal Reserve System, February 4, 2025.
Benjamin W. McDonough,
Deputy Secretary and Ombuds of the Board.

[FR Doc. 2025-02358 Filed 2-6-25; 8:45 am]

BILLING CODE 6210-01-P